ENVIRONMENTAL PROTECTION AGENCY

40 CFR Part 52

[EPA-R05-OAR-2007-1092; FRL-9972-74—Region 5]

Air Plan Approval; Michigan Minor New Source Review

AGENCY: Environmental Protection Agency (EPA).

ACTION: Proposed rule; reopening of the comment period.

SUMMARY: The Environmental Protection Agency (EPA) is reopening the comment period for a proposed Clean Air Act rule published August 15, 2017. An appendix to one of the documents EPA proposed to approve was not available on Regulations.gov as required; therefore, EPA is reopening the comment period for 15 days.

DATES: Comments must be received on or before January 24, 2018.

ADDRESSES: Submit your comments, identified by Docket ID No. EPA-R05-OAR-2007-1092 at https://www.regulations.gov, or via email to damico.genvieve@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Rachel Rineheart, Environmental Engineer, Air Permits Section, Air Programs Branch (AR-18J), Environmental Protection Agency, Region 5, 77 West Jackson Boulevard, Chicago, Illinois 60604, (312) 886-7017, Rineheart.rachel@epa.gov.

SUPPLEMENTARY INFORMATION: Throughout this document whenever “we,” “us,” or “our” is used, we mean the EPA.

On August 15, 2017, EPA proposed to approve certain changes to Michigan's minor new source review program which is contained in Part 2 of the Michigan Administrative Code. EPA had previously reopened the comment period due to an incomplete docket from November 2, 2017 to December 4, 2017. The file containing the state's September 2, 2003 submittal made available on Regulations.gov on September 12, 2017, was missing Attachment H which contained the state's technical analysis of the rule changes. The missing attachment was made available on regulations.gov on December 6, 2017, and EPA is reopening the comment period for an additional 15 days. The comment period now closes on January 24, 2018.

Dated: December 20, 2017.
Robert Kaplan,
Acting Regional Administrator, Region 5.

[FR Doc. 2018-00023 Filed 1-8-18; 8:45 am]

BILLING CODE 6560-50-P